DEPARTMENT OF STATE

[Public Notice 4665]

Defense Trade Advisory Group; Notice of Open Meeting

AGENCY: Department of State.

ACTION: Notice.

The Defense Trade Advisory Group (DTAG) will meet in open session from 9 a.m. to 12 noon on Tuesday, September 21, 2004, in the Loy Henderson Conference Room, at the U.S. Department of State, Harry S. Truman Building, 2201 C Street NW., Washington, DC. Entry and registration will begin at 8:15. Please use the building entrance located at 23rd Street, NW., Washington, DC between C&D Streets. The membership of this advisory committee consists of private sector defense trade specialists, appointed by the Assistant Secretary of State for Political-Military Affairs, who advise the Department on policies, regulations, and technical issues affecting defense trade. The purpose of the meeting will be to review progress of the working groups and to discuss current defense trade issues and topics for further study.

Although public seating will be limited due to the size of the conference room, members of the public may attend this open session as seating capacity allows, and will be permitted to participate in the discussion in accordance with the Chairman's instructions. Members of the public may, if they wish, submit a brief statement to the committee in writing.

As access to the Department of State facilities is controlled, persons wishing to attend the meeting must notify the DTAG Executive Secretariat by COB Monday, September 13, 2004. If notified after this date, the DTAG Secretariat cannot guarantee that State's Bureau of Diplomatic Security can complete the necessary processing required to attend the September 21 plenary.

Each non-member observer or DTAG member needing building access that wishes to attend this plenary session should provide his/her name, company or organizational affiliation, phone number, date of birth, social security number, and citizenship to the DTAG Secretariat, contact person Mary Sweeney via e-mail at SweeneyMF@state.gov. DTAG members planning to attend the plenary session should notify the DTAG Secretariat, contact person Mary Sweeney via e-mail at SweeneyMF@state.gov. A list will be made up for Diplomatic Security and the Reception Desk at the C Street Entrance. Attendees must present a driver's license with photo, a passport, a U.S. Government ID, or other valid photo ID for entry.

FOR FURTHER INFORMATION CONTACT: Mary F. Sweeney, DTAG Secretariat, U.S. Department of State, Office of Defense Trade Controls Management (PM/DTCM), Room 1200, SA-1, Washington, DC 20522-0112, (202) 663-2865, FAX (202) 663-261-8199.

Dated: July 21, 2004.
Michael T. Dixon,
Executive Secretary, Defense Trade Advisory Group, Department of State.

[FR Doc. 04-17310 Filed 7-28-04; 8:45 am]

BILLING CODE 4710-25-P